ENVIRONMENTAL PROTECTION AGENCY

[EPA-R03-OAR-2006-0919; FRL-8335-1]

40 CFR Part 81

Approval and Promulgation of Air Quality Implementation Plans; Virginia; Redesignation of the Hampton Roads Nonattainment Area to Attainment and Approval of the Area's Maintenance Plan and 2002 Base-Year Inventory; Correction

AGENCY: Environmental Protection Agency (EPA).

ACTION: Final rule; correcting amendment.

SUMMARY: This document corrects an error in the rule language of a final rule pertaining to EPA's approval of the Hampton Roads Area maintenance plan and 2002 base-year inventory submitted by the Commonwealth of Virginia.

DATES: Effective Date: July 6, 2007.

FOR FURTHER INFORMATION CONTACT: Amy Caprio, (215) 814-2156 or by e-mail at caprio.amy@epa.gov.

SUPPLEMENTARY INFORMATION: Throughout this document wherever “we” or “our” are used we mean EPA. On June 1, 2007, (72 FR 30490), we published a final rulemaking action announcing our approval of the Hampton Roads Area maintenance plan and 2002 base-year inventory. In that document, we inadvertently omitted Gloucester County on the list of Hampton Roads Cities and Counties in which the Mobile Vehicle Emission Budgets (MVEBs) are applicable. We also inadvertently omitted York County in the Virginia table for the 8-Hour ozone standard published at 40 CFR 81.347. The intent of the rule was to approve the maintenance plan and 2002 base-year inventory for the Hampton Roads Area. This action corrects the erroneous preamble language and rule.

In rule document FRL-8320-9 published in the Federal Register on June 1, 2007 (72 FR 30490), on page 30490 in the third column, the revised rule language is corrected to read “As a result of our finding, the Cities of Chesapeake, Hampton, Newport News, Norfolk, Poquoson, Portsmouth, Suffolk, Virginia Beach, and Williamsburg, and the Counties of Isle of Wight, James City, Gloucester, and York, Virginia must use the MVEBs from the submitted 8-hour ozone maintenance plan for future conformity determinations.”

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Statutory and Executive Order Reviews:

Under Executive Order 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the SUPPLEMENTARY INFORMATION section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of governments, as specified by Executive Order 13132 (64 FR 43255, August 10, 1999). This rule also is not subject to Executive Order 13045 (62 FR 19885, April 23, 1997), because it approves a state rule implementing a Federal standard.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of June 1, 2007. EPA will submit a report containing this rule and other required information to the U.S. Senate, the U.S. House of Representatives, and the Comptroller General of the United States prior to publication of the rule in the Federal Register. This correction to the MVEB applicability and the section 40 CFR 81.347 table for Virginia is not a “major rule” as defined by 5 U.S.C. 804(2).

List of Subjects in 40 CFR Part 81

Environmental protection, Air pollution control, National parks, Wilderness areas.

Dated: June 25, 2007.
Donald S. Welsh,
Regional Administrator, Region III.

40 CFR part 81 is amended as follows:

PART 81—[AMENDED]

1. The authority citation for part 81 continues to read as follows:

Authority: 42 U.S.C. 7401 et seq.

2. In § 81.347 the table entitled “Virginia—Ozone (8-Hour Standard)” is amended by revising the entry for the Norfolk-Virginia Beach-Newport News (Hampton Roads), VA Area to read as follows:

§ 81.347 Virginia.

Virginia—Ozone (8-Hour Standard)
Designated area | Designation ᵃ: Date ¹ | Designation ᵃ: Type | Category/classification: Date ¹ | Category/classification: Type
* * * * * * *
Norfolk-Virginia Beach-Newport News (Hampton Roads), VA Area
Chesapeake City | June 1, 2007 | Attainment. |
Gloucester County | June 1, 2007 | Attainment. |
Hampton City | June 1, 2007 | Attainment. |
Isle of Wight County | June 1, 2007 | Attainment. |
James City County | June 1, 2007 | Attainment. |
Newport News City | June 1, 2007 | Attainment. |
Norfolk City | June 1, 2007 | Attainment. |
Poquoson City | June 1, 2007 | Attainment. |
Portsmouth City | June 1, 2007 | Attainment. |
Suffolk City | June 1, 2007 | Attainment. |
Virginia Beach City | June 1, 2007 | Attainment. |
Williamsburg City | June 1, 2007 | Attainment. |
York County | June 1, 2007 | Attainment. |
* * * * * * *
ᵃ Includes Indian country located in each county or area except otherwise noted.
¹ This date is June 15, 2004, unless otherwise noted.

[FR Doc. E7-12998 Filed 7-5-07; 8:45 am]

BILLING CODE 6560-50-P